NATIONAL ARCHIVES AND RECORDS ADMINISTRATION

Office of Government Information Services

[NARA-2017-033]

Office of Government Information Services (OGIS); Annual Open Meeting

AGENCY: National Archives and Records Administration (NARA).

ACTION: Annual open meeting notice.

SUMMARY: We are conducting an annual meeting open to the public. The purpose of the meeting is to discuss OGIS's reviews and reports and to allow interested people to present oral or written statements.

DATES: The meeting will be Thursday, April 20, 2017, from 9:00 a.m. to 9:45 a.m. EDT. Please register for the meeting no later than April 18, 2017, at 5:00 p.m. EDT.

Location: National Archives and Records Administration (NARA); 700 Pennsylvania Avenue NW.; William G. McGowan Theater; Washington, DC 20408.

FOR FURTHER INFORMATION CONTACT: Amy Bennett, by mail at National Archives and Records Administration; Office of Government Information Services; 8601 Adelphi Road—OGIS; College Park, MD 20740-6001, by telephone at 202-741-5782, or by email at amy.bennett@nara.gov.

SUPPLEMENTARY INFORMATION: We are conducting this open meeting in accordance with the Freedom of Information Act, 5 U.S.C. 552(h)(6).

You can find summaries of OGIS's work in our Annual Reports, at https://www.ogis.archives.gov/about-ogis/annual-reports.htm. Our Fiscal Year 2016 Annual Report (https://www.ogis.archives.gov/Assets/FY+2016+Annual+Report.pdf?method=1) was published during Sunshine Week (March 12-18, 2017).

Procedures: The meeting is open to the public. Due to security requirements, you must register in advance if you wish to attend the meeting. You will also go through security screening when you enter the building. Registration for the meeting will go live via Eventbrite on April 1, 2017, at 10:00 a.m. EDT. To register for the meeting, please do so at this Eventbrite link: https://www.eventbrite.com/e/office-of-government-information-services-annual-open-meeting-april-20-2017-registration-33089414329

We will also live-stream this program on the U.S. National Archives' YouTube channel, at https://www.youtube.com/user/usnationalarchives/playlists. The webcast will include a captioning option. To request additional accommodations (e.g., a transcript), email ogis@nara.gov or call 202-741-5770.

Members of the media who wish to register, those who are unable to register online, and those who require special accommodations, should contact Amy Bennett at the phone number, mailing address, or email address listed above.

Alina M. Semo,
Director, Office of Government Information Services.

[FR Doc. 2017-06650 Filed 4-3-17; 8:45 am]

BILLING CODE 7515-01-P